DEPARTMENT OF LABOR

Employment and Training Administration

Job Training Partnership Act: Native American Employment and Training Council

AGENCY: Employment and Training Administration, Labor.

ACTION: Notice of meeting.

SUMMARY: Pursuant to section 10(a)(2) of the Federal Advisory Committee Act (Pub. L. 92-463), as amended, and section 401(k)(1) of the Job Training Partnership Act, as amended [29 U.S.C. 1671(k)(1)], notice is hereby given of the final meeting of the Native American Employment and Training Council as constituted under JTPA.

Time and Date: The meeting will begin at 1:00 p.m. CDT on Thursday, May 25, 2000, and continue until 5:00 p.m. CDT that day. The meeting will reconvene at 9 a.m. CDT on Friday, May 26, 2000, and adjourn at 4 p.m. CDT on that day. The period from 3 p.m. to 5 p.m. CDT on May 25 will be reserved for participation and presentation by members of the public.

Place: The Rio Grande Ballroom of the Four Points Sheraton Riverwalk North Hotel, 110 Lexington Avenue, San Antonio, Texas 78205.

Status: The meeting will be open to the public.

Matters To Be Considered: The agenda will focus on the following topics: (1) Renewal of the Council charter under the Workforce Investment Act (WIA); (2) work group progress reports; (3) current status of WIA implementation efforts; (4) status of the WIA Final Regulations effort; (5) status of technical assistance and training provision for Program Years 2000 and 2001; and (6) status of WIA performance measures, reporting, and plan submission.

FOR FURTHER INFORMATION CONTACT: Mr. James C. DeLuca, Chief, Division of Indian and Native American Programs, Office of National Programs, Employment and Training Administration, U.S. Department of Labor, Room N-4641, 200 Constitution Avenue, NW, Washington, DC 20210.

Telephone: (202) 219-8502 ext 119 (VOICE) or (202) 326-2577 (TDD) (these are not toll-free numbers).

Signed at Washington, DC, this 25th day of April, 2000.
Thomas M. Dowd,
Acting Director, Office of National Programs.

[FR Doc. 00-10831 Filed 4-28-00; 8:45 am]

BILLING CODE 4510-30-P